DEPARTMENT OF THE INTERIOR

National Park Service

60 Day Notice of Intention To Request Clearance of Collection of Information; Opportunity for Public Comment

AGENCY: Department of the Interior, National Park Service, Yukon-Charley Rivers National Preserve.

ACTION: Notice and request for comments.

SUMMARY: The National Park Service (NPS) in conjunction with a natural resource protection council including members from the Air Force and a number of state and federal land management agencies is proposing in 2002 to conduct surveys of persons using selected Alaskan Military Operations Areas where Air Force training occurs. One of these surveys focuses on hunters who pursue big game animals. Hunters will be asked about their expectations concerning Air Force training and the impacts of reported overflights on their activities and experiences.

| Estimated numbers of: Responses | Estimated numbers of: Burden hours
Alaskan Military Operations Areas:
Big Game Hunter Survey | 2604 | 1085

Under provisions of the Paperwork Reduction Act of 1995 and 5 CFR Part 1320, Reporting and Record Keeping Requirements, the National Park Service is soliciting comments on the need for gathering the information in the proposed surveys. The NPS also is asking for comments on the practical utility of the information being gathered; the accuracy of the burden hour estimate; ways to enhance the quality, utility, and clarity of the information to be collected; and ways to minimize the burden to respondents, including use of automated information collection techniques or other forms of information technology.

The NPS goal in conducting these surveys is to assess the effectiveness of current mitigation efforts in limiting impacts of Air Force training activity on human users of Alaskan Military Operations Areas.

DATES: Public comments will be accepted on or before January 4, 2001.

SEND COMMENTS TO: Darryll R. Johnson, USGS/BRD/FRESC/Cascadia Field Station, College of Forest Resources, Box 352100, University of Washington, Seattle, WA 98195-2100; or Mark E. Vande Kamp, USGS/BRD/FRESC/Cascadia Field Station, College of Forest Resources, Box 352100, University of Washington, Seattle, WA 98195-2100.

FOR FURTHER INFORMATION CONTACT: Darryll R. Johnson. Voice: 206-685-7404, Email: <darryllj@u.washington.edu>; Mark E. Vande Kamp. Voice: 206-543-0378, Email: <mevk@u.washington.edu>.

SUPPLEMENTARY INFORMATION: Titles: Alaskan Military Operations Areas Big Game Hunter Survey.

Bureau Form Number: None.

OMB Number: To be requested.

Expiration Date: To be requested.

Type of request: Request for new clearance.

Description of need: The National Park Service (in conjunction with a natural resource protection council including members from the Air Force and a number of state and federal land management agencies) needs information to assess the effectiveness of current mitigation efforts in limiting impacts of Air Force training activity on human users of Alaskan Military Operations Areas.

Automated data collection: At the present time, there is no automated way to gather this information because it includes expectations and evaluations visitors associate with their experiences while hunting in Alaskan Military Operations Areas.

Description of respondents: A sample of individuals who hunted big game in Military Operations Areas.

Estimated average number of respondents: 2604.

Estimated average number of responses: Each respondent will respond only once to a mail questionnaire.

Estimated average burden hours per response: 25 minutes.

Frequency of Response: 1 mail survey per respondent.

Estimated annual reporting burden: 1085 hours.

Dated: August 12, 2001.
Leonard E. Stowe,
Acting Information Collection Clearance Officer, WASO Administrative Program Center, National Park Service.

[FR Doc. 01-27691 Filed 11-2-01; 8:45 am]

BILLING CODE 4310-70-M